COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) to the Procurement List that were furnished by nonprofit agencies employing persons who are blind or have other severe disabilities.

DATES: Comments must be received on or before: March 28, 2021.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) are proposed for deletion from the Procurement List:

Product(s)

NSN(s)—Product Name(s):

8415-01-524-5957—Cover, PASGT Helmet, Universal Camouflage, XS/S

8415-01-524-6027—Cover, PASGT Helmet, Universal Camouflage, M/L

8415-01-524-6028—Cover, PASGT Helmet, Universal Camouflage, XL

Designated Source of Supply: Lions Services, Inc., Charlotte, NC; Industries of the Blind, Inc., Greensboro, NC; Mount Rogers Community Services Board, Wytheville, VA; Lions Volunteer Blind Industries, Inc., Morristown, TN

Contracting Activity: DLA TROOP SUPPORT, PHILADELPHIA, PA W6QK ACC-APG NATICK, NATICK, MA

NSN(s)—Product Name(s):

6645-01-421-6898—Clock, Wall, Slimline, Taupe, 12¾″ Diameter, Quartz

6645-01-421-6901—Clock, Wall, Slimline, Stone Gray, 12¾″ Quartz

6645-01-421-6906—Clock, Wall, Walnut, 16″ Quartz

6645-01-456-6022—Clock, Wall, Slimline, Stone Gray, Custom Logo, 12¾″ Quartz

6645-01-456-6023—Clock, Wall, Walnut, Custom Logo, 16″ Quartz

6645-01-456-6024—Clock, Wall, Slimline, Taupe, Custom Logo, 12¾″ Quartz

6645-01-491-9807—Clock, Wall, Atomic, Bronze, 12¾″ Diameter

6645-01-491-9808—Clock, Wall, Atomic, Bronze, 9¼″ Diameter

6645-01-491-9829—Clock, Wall, 12/24 Hour, Atomic, Bronze, 9¼″ Diameter

6645-01-491-9831—Clock, Wall, Atomic, Black, Custom Logo, 9¼″ Diameter

6645-01-492-0377—Clock, Wall, Atomic, Walnut, 16″ Diameter

Designated Source of Supply: Chicago Lighthouse Industries, Chicago, IL

Contracting Activity: GSA/FAS ADMIN SVCS ACQUISITION BR (2, NEW YORK, NY

NSN(s)—Product Name(s):

8415-01-465-4629—Pants, Physical Fitness Uniform, Army, Black, Large/Regular

8415-01-465-4635—Pants, Physical Fitness Uniform, Army, Black, X-Large/Regular

8415-01-465-4636—Pants, Physical Fitness Uniform, Army, Black, XX-Large/Regular

8415-01-465-4638—Pants, Physical Fitness Uniform, Army, Black, XXX-Large/Regular

8415-01-465-4639—Pants, Physical Fitness Uniform, Army, Black, X-Small/Long

8415-01-465-4640—Pants, Physical Fitness Uniform, Army, Black, Small/Long

8415-01-465-4641—Pants, Physical Fitness Uniform, Army, Black, Medium/Long

8415-01-465-4645—Pants, Physical Fitness Uniform, Army, Black, Large/Long

8415-01-465-4647—Pants, Physical Fitness Uniform, Army, Black, X-Large/Long

8415-01-465-4648—Pants, Physical Fitness Uniform, Army, Black, XX-Large/Long

8415-01-465-4652—Pants, Physical Fitness Uniform, Army, Black, XXX-Large/Long

8415-01-465-4860—Pants, Physical Fitness Uniform, Army, Black, X-Small/Short

8415-01-465-4862—Pants, Physical Fitness Uniform, Army, Black, Small/Short

8415-01-465-4864—Pants, Physical Fitness Uniform, Army, Black, Medium/Short

8415-01-465-4865—Pants, Physical Fitness Uniform, Army, Black, Large/Short

8415-01-465-4866—Pants, Physical Fitness Uniform, Army, Black, X-Large/Short

8415-01-465-4867—Pants, Physical Fitness Uniform, Army, Black, XX-Large/Short

8415-01-465-4869—Pants, Physical Fitness Uniform, Army, Black, XXX-Large/Short

8415-01-465-4871—Pants, Physical Fitness Uniform, Army, Black, X-Small/Regular

8415-01-465-4872—Pants, Physical Fitness Uniform, Army, Black, Small/Regular

8415-01-465-4878—Pants, Physical Fitness Uniform, Army, Black, Medium/Regular

Designated Source of Supply: Alphapointe, Kansas City, MO; Georgia Industries for the Blind, Bainbridge, GA; Lions Services, Inc., Charlotte, NC; Industries of the Blind, Inc., Greensboro, NC; Lions Volunteer Blind Industries, Inc., Morristown, TN; San Antonio Lighthouse for the Blind, San Antonio, TX; LC Industries, Inc., Durham, NC; Asso. for the Blind and Visually Impaired-Goodwill Industries of Greater Rochester, Inc., Rochester, NY

Contracting Activity: DLA TROOP SUPPORT, PHILADELPHIA, PA

Michael R. Jurkowski,
Deputy Director, Business & PL Operations.

[FR Doc. 2021-04009 Filed 2-25-21; 8:45 am]

BILLING CODE 6353-01-P